DEPARTMENT OF TRANSPORTATION

Federal Aviation Administration

14 CFR Part 71

[Docket No. FAA-2009-1050; Airspace Docket No. 09-ASW-40]

RIN 2120-AA66

Proposed Amendment to and Establishment of Restricted Areas and Other Special Use Airspace; Razorback Range Airspace Complex, AR

AGENCY: Federal Aviation Administration (FAA), DOT.

ACTION: Notice of proposed rulemaking (NPRM); correction.

SUMMARY: This action corrects a NPRM published in the Federal Register March 30, 2010. In that NPRM, the airspace docket number was incorrectly published as “09-ASW-3” instead of “09-ASW-40.” This action corrects that error.

DATES: Effective date 0901 UTC, April 19, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On March 30, 2010, a NPRM for Airspace Docket No. 09-ASW-3, FAA Docket No. FAA-2009-1050, was published in the Federal Register (75 FR 15632) to amend and establish restricted areas and other special use airspace in the Razorback Range Airspace Complex, AR. The airspace docket number in that NPRM was incorrect and should have read “09-ASW-40” instead of “09-ASW-3.” This action corrects that error.

Correction to Proposed Rule

Accordingly, pursuant to the authority delegated to me, in proposed rule FAA Docket No. FAA-2009-1050, on March 30, 2010 (75 FR 15632), make the following correction:

§ 71.1 [Amended]

On page 15632, columns 2, and 3, and on page 15633, column 1, correct the airspace docket number to read as follows: Airspace Docket No. 09-ASW-40.

Issued in Washington, DC, on April 8, 2010.
Edith V. Parish,
Manager, Airspace and Rules Group.

[FR Doc. 2010-8829 Filed 4-16-10; 8:45 am]

BILLING CODE 4910-13-P